DEPARTMENT OF THE TREASURY

Comptroller of the Currency

12 CFR Part 37

Debt Cancellation Contracts and Debt Suspension Agreements

CFR Correction

In Title 12 of the Code of Federal Regulations, parts 1 to 199, revised as of January 1, 2014, on page 617, in § 37.7, in paragraph (a), in the first sentence, “§ 37.6(d)” is corrected to read “§ 37.6(b)” and in the last sentence “§ 37.6(b)” is corrected to read “§ 37.6(d)”.

[FR Doc. 2014-15113 Filed 6-26-14; 8:45 am]

BILLING CODE 1505-01-D